DEPARTMENT OF HEALTH AND HUMAN SERVICES

Office of Inspector General

Program Exclusions: July 2004

AGENCY: Office of Inspector General, HHS.

ACTION: Notice of program exclusions.

During the month of July 2004, the HHS Office of Inspector General imposed exclusions in the cases set forth below. When an exclusion is imposed, no program payment is made to anyone for any items or services(other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions
Agyemang, Kwadwo | Union, NJ | 8/19/2004
Albanese, Gabriella | Albion, NY | 8/19/2004
Artsrounian, Haik | Taft, CA | 8/19/2004
Bardo, Manuel | Miami, FL | 8/19/2004
Bejanzadeh, Emil | North Las Vegas, NV | 8/19/2004
Bielaus, Michael | Kenner, LA | 8/19/2004
Breslow, Julian | Boca Raton, FL | 2/10/2004
Butcher, Holly | The Colony, TX | 8/20/2002
Callejas, Juana | Adelanto, CA | 8/19/2004
Canon, Robert | Shelbyville, TN | 8/19/2004
Carroll, Lynda | Ellensburg, WA | 8/19/2004
Castaneto, Orlando | Carson, CA | 8/19/2004
Ciraolo, Costanza | Rancho Palose Verdes, CA | 8/19/2004
Ciraolo, Juan | Taft, CA | 8/19/2004
Cloyd, Tonya | Milwaukee, WI | 8/19/2004
Cogdell, Myra | Wyandanch, NY | 8/19/2004
Collado-Marcial, Jose | Toa Baja, PR | 8/19/2004
Courtney, Rachel | Coshocton, OH | 8/19/2004
Darr, Adele | Taylor, AZ | 5/22/2004
Darr, James | Phoenix, AZ | 5/22/2004
Foster, Travis | Atlanta, GA | 8/19/2004
Gallego, Robert | Marina, CA | 8/19/2004
Gonzalez, Luisa | Adelanto, CA | 8/19/2004
Helterbran, Cheryl | Columbus, OH | 8/19/2004
Hudkins, James | Shelton, WA | 8/19/2004
Hyman, Parnell | Yankton, SD | 8/19/2004
Johnson, Nathan | Texarkana, TX | 8/19/2004
Jones, Teresa | Milwaukee, WI | 8/19/2004
Joyce, James | Goldsboro, NC | 8/19/2004
Khachatrian, Sarkis | Lompoc, CA | 8/19/2004
Lawrence, Gwendolyn | Cleveland, OH | 8/19/2004
Loberg, Kellie | Jacobson, MN | 8/19/2004
Lodge, Craig | Duluth, GA | 8/19/2004
Martin, Bennie | Paterson, NJ | 8/19/2004
Martin, Valeria | Milwaukee, WI | 8/19/2004
McKenzie, Eunice | Mt Vernon, NY | 8/19/2004
Meirink, Lillian | Topeka, KS | 8/19/2004
Misorski, John | Beaver, PA | 8/19/2004
Monroe-Gonroff, Tami | Oregon City, OR | 8/19/2004
Morse, Teresita | Edmonds, WA | 8/19/2004
Murphy, Charles | Clinton, NC | 8/19/2004
Parker, Kenneth | Ellenwood, GA | 8/19/2004
Pena, Irma | Los Angeles, CA | 8/19/2004
Reiss, Moshe | Brooklyn, NY | 8/19/2004
Renick, John | Panama City, FL | 8/20/2002
Ridgeley, Deborah | Phoenix, AZ | 8/19/2004
Ridgeley, Richard | Taft, CA | 8/19/2004
Rowland, Tara | East Columbus, OH | 8/19/2004
Ruffin, Shalonte | Scotland Neck, NC | 8/19/2004
Shams, Imran | Huntington Beach, CA | 8/19/2004
Stewart, Allan | Elk, WA | 8/19/2004
Tecson, Ronaldo | Eloy, AZ | 8/19/2004
Varda, Ann | Chisholm, MN | 8/19/2004
Warwick, Julius | Coolidge, AZ | 8/19/2004
Watson, Bernetta | Idaho Falls, ID | 8/19/2004
Wegner, Kathleen | Billings, MT | 8/19/2004
White, Timothy | New York, NY | 8/19/2004
Williams, Donald | Jonesboro, GA | 8/19/2004
Woodward, David | Loretta, PA | 8/19/2004
Felony Conviction for Health Care Fraud
Acosta, Erma | Sebring, FL | 8/19/2004
Barclay, Aaronette | Maplewood, MN | 8/19/2004
Becker, Tina | Sidney, OH | 8/19/2004
Besel, Cheryl | Wichita, KS | 8/19/2004
Chavez, Genesis | Campbell, CA | 8/19/2004
Coss-Rea, Christine | Painesville, OH | 8/19/2004
Fennell, Dennis | Georgetown, TX | 8/19/2004
Fields, Dana | Clearwater, FL | 8/19/2004
Finder, Richard | Watermill, NY | 8/19/2004
Garish, Corena | Dayton, OH | 8/19/2004
Greenbaum, Irwin | Greenville, MI | 8/19/2004
Johnson, Vernon | Achille, OK | 8/19/2004
Laboe, Bradley | Onsted, MI | 8/19/2004
LeQuatte, Ernest | Herrin, IL | 8/19/2004
Parmenter, Betty | Grants Pass, OR | 8/19/2004
Redding, James | Minersville, PA | 8/19/2004
Ruiz, Denise | Port St Lucie, FL | 8/19/2004
Sherman, Josef | Eglin AFB, FL | 8/19/2004
Sherman, Yevgeny | Coleman, FL | 8/19/2004
Felony Control Substance Conviction
Anderson, Stephanie | Bloomington, IN | 8/19/2004
Anthony, Joseph | Raiford, FL | 8/19/2004
Buchman, Jacquelyn | Westlake, OH | 8/19/2004
Burdine, Elizabeth | Wakeman, OH | 8/19/2004
Cohen, Abbott | Alpena, MI | 8/19/2004
Cooper, Frank | Houston, TX | 8/19/2004
Cummings, Angelique | N Richland Hills, TX | 8/19/2004
Gates, Thomas | West Branch, MI | 8/19/2004
Goodin, Richard | Ogdensburg, NY | 8/19/2004
Ollison, Tommy | Gonzales, TX | 8/19/2004
Salem, Salem | St Thomas, VI | 8/19/2004
Salem-Zuhdi, Rushdi | Eglin AFB, FL | 8/19/2004
Santos, Rodolfo | Lexington, KY | 8/19/2004
Sawaf, Ali | Glenville, WV | 8/19/2004
Thibodeau, Anne | Biddeford, ME | 8/19/2004
Yabut-Baluyut, Fredesminda | Dublin, CA | 8/19/2004
Patient Abuse/Neglect Convictions
Ahmed, Azzam | London, OH | 8/19/2004
Beeman, Lawrence | Greeley, CO | 8/19/2004
Beran, Nancy | Bouckville, NY | 8/19/2004
Borela, Lincoln | Belle Plaine, MN | 8/19/2004
Brown, Caryn | Benton Harbor, MI | 8/19/2004
Day, Arlene | Bronx, NY | 8/19/2004
Duval, Wilna | Westbury, NY | 8/19/2004
Fehr, Myra-Becca | Wilsonville, OR | 8/19/2004
Green, Mark | Akron, OH | 8/19/2004
Hayes, Robert | Toledo, OH | 8/19/2004
Hayes, Timothy | Wayne, PA | 8/19/2004
Headley, Peggy | Williamsburg, OH | 8/19/2004
Heavenly Care Remember Me, Inc | Milwaukee, WI | 8/19/2004
Herring, Lionel | Washington, DC | 8/19/2004
Jenkins, Michelle | Oswego, NY | 8/19/2004
Lafon, Michael | Haddonfield, NJ | 8/19/2004
Leisure Living Management of Lansing, Inc | Lowell, MI | 8/19/2004
Levingston, Lashun | Milwaukee, WI | 8/19/2004
McCrimmon, Samantha | McRae, GA | 8/19/2004
Montgomery, Muriel | Delhi, LA | 8/19/2004
Murphy, Ruth | Ludow, KY | 8/19/2004
Patchett, Brenda | McMinnville, OR | 8/19/2004
Robbins, Tracey | Buffalo, NY | 8/19/2004
Robinzine, Shuntay | Enid, MS | 8/19/2004
Rowland, Kevin | Platte City, MO | 8/19/2004
Tacras, Joel | Waipahu, HI | 8/19/2004
Veales, Tamara | Pauls Valley, OK | 8/19/2004
Walton, Michael | Airway Heights, WA | 8/19/2004
Washington, Cassandra | Bunkie, LA | 8/19/2004
Williams, Joyce | Rochester, NY | 8/19/2004
Williams, Thomas | Towson, MD | 8/19/2004
Woodall, Clarence | Jackson, MS | 8/19/2004
Conviction for Health Care Fraud
Turner, Lynda | Baton Rouge, LA | 8/19/2004
License Revocation/Suspension/Surrendered
Adams, William | Acton, CA | 8/19/2004
Akers, Cynthia | Kokomo, IN | 8/19/2004
Amanatullah, Frank | Pocatello, ID | 8/19/2004
Amontos, Bonifacio | Carson, CA | 8/19/2004
Amsden, Ann | Colusa, CA | 8/19/2004
Anderson, Lynette | Mead, WA | 8/19/2004
Anderson, Tommie | Columbia, MS | 8/19/2004
Armstrong, Elizabeth | Lancaster, OH | 8/19/2004
Astarita, Margaret | Georgetown, TX | 8/19/2004
Aviles, Veronica | Santa Ana, CA | 8/19/2004
Bangkok Health Club | Tampa, FL | 8/19/2004
Barnett, Clarence | Laurel, MS | 8/19/2004
Bays, Barbara | Barbourville, KY | 8/19/2004
Beccue, Diana | Altamont, IL | 8/19/2004
Bennett, Betty | Echola, AL | 8/19/2004
Bettini, Janice | Andover, MA | 8/19/2004
Bohlen, Myra | Awendaw, SC | 8/19/2004
Bunting, Melanie | Indianapolis, IN | 8/19/2004
Carl, Cynthia | Goodyear, AZ | 8/19/2004
Cerny, Jerome | Terre Haute, IN | 8/19/2004
Chung, Kapeun | Farmington, MO | 8/19/2004
Connolly, Joyce | Chelmsford, MA | 8/19/2004
Cooper, Patricia | Aledo, IL | 8/19/2004
Cortez, Federico | El Monte, CA | 8/19/2004
Cowlin, Christine | Pittsfield, MA | 8/19/2004
Coy, Frederick | Tucson, AZ | 8/19/2004
Crenshaw, Sherrie | Nice, CA | 8/19/2004
Crystal's Beauty Salon, Inc | Miami, FL | 8/19/2004
Cusack, Deborah | Poulsbo, WA | 8/19/2004
Devi, Mani Manjari | Brooklyn, NY | 8/19/2004
Dicke, John | Morrison, CO | 8/19/2004
Dieterle, Karen | Sickerville, NJ | 8/19/2004
Dietz, Kim | Rapid City, SD | 8/19/2004
Dinsmore, Karen | Wilsonville, OR | 8/19/2004
Donnelly, Paula | Harvest, AL | 8/19/2004
Dooley, Linda | N Quincy, MA | 8/19/2004
Florence, Tina | Warrior, AL | 8/19/2004
Francis, Elizabeth | Phoenix, AZ | 8/19/2004
Franklin, Lawanda | Mobile, AL | 8/19/2004
Freed, Sheryl | Rock Island, IL | 8/19/2004
Gonzoph, Barbara | Collingswood, PA | 8/19/2004
Goulbourne, Apryl | Huntsville, AL | 8/19/2004
Green, Charleen | Fredrick, OK | 8/19/2004
Haines, Ramona | Marlton, NJ | 8/19/2004
Haley, Dellashawn | Long Beach, CA | 8/19/2004
Hannam, Kelly | Wasilla, AK | 8/19/2004
Harris, Linda | Desert Hot Springs, CA | 8/19/2004
Herrington, Kelli | Tulsa, OK | 8/19/2004
Hill, Cheryl | Waterloo, IA | 8/19/2004
Hixson, Karin | Pompano Beach, FL | 8/19/2004
Hobbs, Tina | Bakersfield, CA | 8/19/2004
Hoffman, Jerri | Lawton, OK | 8/19/2004
Hooks, James | Northglenn, CO | 8/19/2004
Hurt, Winifred | Lockport, IL | 8/19/2004
Hutchings, Tyson | Cameron Park, CA | 8/19/2004
Jackson, Cindy | Gadsden, AL | 8/19/2004
Jarrett, Betty | Sierra Vista, AZ | 8/19/2004
Jobe, Judy | Boise, ID | 8/19/2004
Johnson, Frank | St Paul, MN | 8/19/2004
Kelly, Cory | Birmingham, AL | 8/19/2004
King, John | West Memphis, AR | 8/19/2004
Krist, Gary | Auburn, GA | 8/19/2004
Lawson, Janis | Cincinnati, OH | 8/19/2004
Levy, Stephen | Wilton, CT | 8/19/2004
Lipsey, Joyce | Plantersville, MS | 8/19/2004
Lorenzo, Roberto | Rosemead, CA | 8/16/2004
Lucchetti, Frank | Napa, CA | 8/19/2004
Lynn, Laura | Bessemer, AL | 8/19/2004
Martin, Sandra | Birmingham, AL | 8/19/2004
Martinez, Priscilla | Seattle, WA | 8/19/2004
Matticks, Penni | Springfield, IL | 8/19/2004
Mawikere, Sandy | Upland, CA | 8/19/2004
Mays, Jessica | Haleyville, AL | 8/19/2004
McBroom, Melanie | Big Pine Key, FL | 8/19/2004
McKenzie, Jennie | Fulton, IL | 8/19/2004
McLean-Neufeld, Richard | Mankato, MN | 8/19/2004
Mester, Carol | Mineville, NY | 8/19/2004
Mick, Cheri | Sun City, AZ | 8/19/2004
Miller, Patricia | Edwardsburg, MI | 8/19/2004
Miller, Sean | Las Vegas, NV | 8/19/2004
Moore, Emery | Fallbrook, CA | 8/19/2004
Morgan, Katherine | Silverton, OR | 8/19/2004
Nash, Julia | Irvine, CA | 8/19/2004
Norris, Heather | Bronx, NY | 8/19/2004
Oehmen, Judith | Burbank, CA | 8/19/2004
Payne, Angel | Clayton, WA | 8/19/2004
Pepper, Joan | Cape May, NJ | 8/19/2004
Perry, Josie | Minneapolis, KS | 8/19/2004
Pickett, Kim | Salt Lake, UT | 8/19/2004
Pitts, Amanda | Bothell, CA | 8/19/2004
Pletz, John | San Francisco, CA | 8/19/2004
Ponce, Ines | Baldwin Park, CA | 8/19/2004
Price, Jeri | Pismo Beach, CA | 8/19/2004
Rath, Siddhartha | Shreveport, LA | 8/19/2004
Reed, John | Chicago, IL | 8/19/2004
Reed, Tracey | Winchester, IL | 8/19/2004
Reid, Kathleen | Las Vegas, NV | 8/19/2004
Riley, Jason | Indianapolis, IN | 8/19/2004
Riley, Johnnie | Kankakee, IL | 8/19/2004
Riley, Thad | Milton, FL | 8/19/2004
Rodriquez, Sonia | Lewisville, TX | 8/19/2004
Rogers-Faneuf, Richelle | Peabody, MA | 8/19/2004
Root, Delena | Winooski, VT | 8/19/2004
Satterley, Charles | Bellport, NY | 8/19/2004
Schutt, Michelle | Leroy, NY | 8/19/2004
Shaver, Steven | Las Vegas, NV | 7/23/2004
Short, Susan | Kodiak, AK | 8/19/2004
Shriver, Sue | Winston-Salem, NC | 8/19/2004
Sigler, Ruth | Danville, IL | 8/19/2004
Simonds, Shantri | Claremont, NH | 8/19/2004
Sims, Gary | Laurel, MS | 8/19/2004
Slief, Mary | Dallas, TX | 8/19/2004
Sneed, Andrew | Boulder City, NV | 8/19/2004
Stanton, Jacquelyn | Denver, CO | 8/19/2004
Stephens, Grant | McMinnville, OR | 8/19/2004
Stone, Kokoro | Portland, OR | 8/19/2004
Stuart, Christine | North Manchester, IN | 8/19/2004
Tiernan, Kevin | Louisville, KY | 8/19/2004
Torres, Julian | Santa Ana, CA | 8/19/2004
Tyrrell, Mark | Little Falls, NJ | 8/19/2004
Urbina, Ibis | Merced, CA | 8/19/2004
Vannoy, Angela | North Vernon, IN | 8/19/2004
Wadley, Stephanie | Grove, OK | 8/19/2004
White, Melody | Saint Augustine, FL | 8/19/2004
Yarbrough, Kimberly | Jackson Gap, AL | 8/19/2004
Ziegler, Stephanie | Harmony, PA | 8/19/2004
Zimmerman, Richard | Grand Rapids, MI | 8/19/2004
Zins, Patricia | Boise, ID | 8/19/2004
Federal/State Exclusion/Suspension
Brown, Thomas | Carlinville, IL | 8/19/2004
Daley, Rebecca | Pembroke, ME | 8/19/2004
Stamboliu, Dan | Chicago, IL | 8/19/2004
Yamini, Dorian | Olympia Fields, IL | 8/19/2004
Fraud/Kickbacks/Prohibited Acts/Settlement Agreements
American Home Vision | St Louis, MO | 3/15/2004
Goldberg, Steven | Chesterfield, MO | 3/15/2004
Owned/Controlled by Convicted Entities
Acupuncture Chiropractic Medical Clinic | Los Angeles, CA | 8/19/2004
Back to Health, Inc | Los Altos, CA | 8/19/2004
Better Health Pharmacy, Inc | Brooklyn, NY | 8/19/2004
Brooklyn Medical Arts HIV Care, PC | Brooklyn, NY | 8/19/2004
John A Giddings, MD, Inc | Duarte, CA | 8/19/2004
Keith R Ohanesian, DC | Sherman Oaks, CA | 8/19/2004
Kubski & Kubski, MD, PA | West Palm Beach, FL | 8/19/2004
MIA Transportation Services, Inc | Euclid, OH | 8/19/2004
Michael W Hardee, DMD, MS, PA | Seminole, FL | 8/19/2004
Southern California Cardiology | Duarte, CA | 8/19/2004
Default on Heal Loan
Bennett, Chris | Wichita, KS | 8/19/2004
Davidek, Rosali | Riverside, CA | 8/19/2004
McKay, Kevin | Dallas, TX | 8/19/2004
Ofor, Chukwu | Houston, TX | 8/19/2004
Schoonover, John | Desoto, TX | 8/19/2004
Sinclair, Blake | Tyler, TX | 8/19/2004
Swella, Jeffrey | St Petersburg, FL | 8/19/2004
Ybanez, Manuel | Lakeland, FL | 8/19/2004

Dated: July 4, 2004.
Kathleen Pettit,
Acting Director, Exclusion Staff, Office of Inspector General.

[FR Doc. 04-18411 Filed 8-11-04; 8:45 am]

BILLING CODE 4150-04-P